DEPARTMENT OF HEALTH AND HUMAN SERVICES

Administration for Children and Families

Estimated Federal Allotments to State Developmental Disabilities Councils and Protection and Advocacy Systems Formula Grant Programs for Fiscal Year 2012

AGENCY: Administration on Developmental Disabilities (ADD), Administration for Children and Families (ACF), Department of Health and Human Services (HHS).

ACTION: Notification of Estimated Fiscal Year (FY) 2012 Federal Allotments to State Developmental Disabilities Councils and Protection and Advocacy Systems Formula Grant Programs.

SUMMARY: This notice sets forth estimated FY 2012 individual allotments and estimated percentages of the total allotments to States administering the State Developmental Disabilities Councils and Protection and Advocacy Systems programs, pursuant to section 122 and section 142 of the Developmental Disabilities Assistance and Bill of Rights Act (the Act) [Pub. L. 106-402, October 30, 2000]. The estimated allotment amounts are based on the FY 2012 President's Budget request and are contingent on Congressional appropriations for FY 2012. Once Congress enacts an appropriation for FY 2012 and after ADD updates the data elements listed in the SUPPLEMENTARY INFORMATION section below, the estimated allotments will be adjusted accordingly. The estimated allotments contained herein will be adjusted for FY2012.

The final State allotments will be available on the ADD homepage after a final 2012 Continuing Resolution or HHS appropriations bill is passed by Congress.

DATES: Effective Date: October 1, 2011.

CFDA Number: 93.630, Developmental Disabilities Basic Support and Advocacy Grants.

SUPPLEMENTARY INFORMATION: Section 122(a)(2) of the Act requires that adjustments in the amounts of State allotments shall be made not more often than annually and that States must be notified no less than six months before the beginning of the fiscal year in which such adjustment is to take effect. In relation to the State Developmental Disabilities Council allotments, the descriptions of service needs were reviewed in the State plans and are consistent with the results obtained from the data elements and projected formula amounts for each State (Section 122(a)(5)). In addition, Section 142(a) of the Act makes the allotment and reallotment structure in Section 122 applicable to grants to States for Protection and Advocacy Systems.

ADD will update the following FY 2011 data elements for issuance of FY 2012 allotments for both of the Developmental Disabilities formula grant programs:

The number of beneficiaries in each State and Territory under the Childhood Disabilities Beneficiary Program are from Table 5.J10 of the 2009 Annual Statistical Supplement to the Social Security Bulletin issued by the Social Security Administration;

State data on Per Capita Income are from Table SA1-3—Per Capita Personal Income, 2006-2008 from the Regional Economic Information System, issued by the Bureau of Economic Analysis, U.S. Department of Commerce, September 2010. The most recent comparable data for the Territories were obtained from the U.S. Department of Commerce, October 2009; and

State population data is based on table GCT-T1.—Population Estimates at: July 1, 2009 issued by the U.S. Census Bureau. State working populations (ages 18-64) are based on the Estimates of the Resident Population by Selected Age Groups for the United States and Puerto Rico: July 1, 2009 (SC-EST2009-01) from the U.S. Census Bureau. Total population and working population estimates for the Territories other than Puerto Rico are based on Population and Housing Profile: 2000 data sets from the “Island Areas” surveys conducted as part of the 2000 Census by the U.S. Census Bureau.

FOR FURTHER INFORMATION CONTACT: Nathaniel Morris West, Financial Management Specialist, Office of Grants Management, Office of Administration, Administration for Children and Families. Phone: 202-401-1230, e-mail: nathaniel.west@acf.hhs.gov.

Table 1—Estimated ¹ FY 2012 Allotments Administration on Developmental Disabilities
[Developmental disabilities councils]
| Percentage of total allotted | Estimated 2012 allotment
Total | 100.00000 | $74,915,868
Alabama | 0.01817 | 1,361,187
Alaska | 0.00638 | 477,839
Arizona | 0.01976 | 1,480,235
Arkansas | 0.01067 | 799,589
California | 0.09216 | 6,904,064
Colorado | 0.01219 | 913,428
Connecticut | 0.00967 | 724,261
Delaware | 0.00638 | 477,839
District of Columbia | 0.00638 | 477,839
Florida | 0.04964 | 3,719,155
Georgia | 0.02896 | 2,169,638
Hawaii | 0.00638 | 477,839
Idaho | 0.00638 | 477,839
Illinois | 0.03514 | 2,632,891
Indiana | 0.01999 | 1,497,561
Iowa | 0.01031 | 772,628
Kansas | 0.00819 | 613,359
Kentucky | 0.01696 | 1,270,824
Louisiana | 0.01884 | 1,411,558
Maine | 0.00638 | 477,839
Maryland | 0.01343 | 1,006,143
Massachusetts | 0.01873 | 1,403,346
Michigan | 0.03461 | 2,592,887
Minnesota | 0.01366 | 1,023,244
Mississippi | 0.01286 | 963,145
Missouri | 0.01836 | 1,375,516
Montana | 0.00638 | 477,839
Nebraska | 0.00638 | 477,839
Nevada | 0.00665 | 498,459
New Hampshire | 0.00638 | 477,839
New Jersey | 0.02118 | 1,586,644
New Mexico | 0.00680 | 509,501
New York | 0.05827 | 4,365,667
North Carolina | 0.02835 | 2,123,553
North Dakota | 0.00638 | 477,839
Ohio | 0.03824 | 2,865,133
Oklahoma | 0.01195 | 895,455
Oregon | 0.01109 | 830,833
Pennsylvania | 0.04197 | 3,144,463
Rhode Island | 0.00638 | 477,839
South Carolina | 0.01522 | 1,140,506
South Dakota | 0.00638 | 477,839
Tennessee | 0.02023 | 1,515,680
Texas | 0.06802 | 5,095,817
Utah | 0.00905 | 677,662
Vermont | 0.00638 | 477,839
Virginia | 0.02001 | 1,498,925
Washington | 0.01678 | 1,257,339
West Virginia | 0.01050 | 786,863
Wisconsin | 0.01738 | 1,301,666
Wyoming | 0.00638 | 477,839
American Samoa | 0.00332 | 248,845
Guam | 0.00332 | 248,845
Commonwealth of the Northern Marianas Islands (CNMI) | 0.00332 | 248,845
Puerto Rico | 0.03340 | 2,501,917
U.S. Virgin Islands | 0.00332 | 248,845

Table 2—Estimated ¹ FY 2012 Allotments Administration on Developmental Disabilities
[Protection and advocacy systems]
| Percentage of total allotted | Estimated 2012 allotment
Total | 100.00000 | ² $40,123,113
Alabama | 0.01646 | 660,543
Alaska | 0.00959 | 384,693
Arizona | 0.01748 | 701,542
Arkansas | 0.01020 | 409,079
California | 0.08484 | 3,403,846
Colorado | 0.01155 | 463,556
Connecticut | 0.00994 | 398,784
Delaware | 0.00959 | 384,693
District of Columbia | 0.00959 | 384,693
Florida | 0.04679 | 1,877,320
Georgia | 0.02780 | 1,115,512
Hawaii | 0.00959 | 384,693
Idaho | 0.00959 | 384,693
Illinois | 0.03383 | 1,357,362
Indiana | 0.01990 | 798,483
Iowa | 0.00973 | 390,580
Kansas | 0.00959 | 384,693
Kentucky | 0.01555 | 623,981
Louisiana | 0.01520 | 609,929
Maine | 0.00959 | 384,693
Maryland | 0.01244 | 499,010
Massachusetts | 0.01600 | 641,917
Michigan | 0.03232 | 1,296,851
Minnesota | 0.01328 | 533,010
Mississippi | 0.01154 | 463,159
Missouri | 0.01838 | 737,510
Montana | 0.00959 | 384,693
Nebraska | 0.00959 | 384,693
Nevada | 0.00959 | 384,693
New Hampshire | 0.00959 | 384,693
New Jersey | 0.01961 | 786,673
New Mexico | 0.00959 | 384,693
New York | 0.04964 | 1,991,618
North Carolina | 0.02813 | 1,128,824
North Dakota | 0.00959 | 384,693
Ohio | 0.03598 | 1,443,662
Oklahoma | 0.01091 | 437,660
Oregon | 0.01070 | 429,424
Pennsylvania | 0.03710 | 1,488,376
Rhode Island | 0.00959 | 384,693
South Carolina | 0.01503 | 602,915
South Dakota | 0.00959 | 384,693
Tennessee | 0.01979 | 794,135
Texas | 0.06211 | 2,491,848
Utah | 0.00959 | 384,693
Vermont | 0.00959 | 384,693
Virginia | 0.01933 | 775,504
Washington | 0.01581 | 634,184
West Virginia | 0.00988 | 396,242
Wisconsin | 0.01688 | 677,276
Wyoming | 0.00959 | 384,693
American Samoa | 0.00513 | 205,808
Guam | 0.00513 | 205,808
Commonwealth of the Northern Marianas Islands (CNMI) | 0.00513 | 205,808
Puerto Rico | 0.02765 | 1,109,284
U.S. Virgin Islands | 0.00513 | 205,808
Native American Protection and Advocacy ³ | 0.00513 | 205,808
¹ Fiscal Year 2012 Estimated Allotments are based on FY 2011 actual allotments.
² In accordance with Public Law 106-402, Section 142(a)(6)(A), up to $818,839 may be withheld from the appropriated amount to fund technical assistance as the statute provides for spending up to two percent of the amount appropriated for this purpose. Unused funds will be re-allotted in accordance with Section 122(e) of the Act.
³ American Indian Consortia are eligible to receive an allotment under Section 142(a)(6)(B) of the Act.

Dated: July 11, 2011.
Joseph Lonergan,
Director, Division of Mandatory Grants.

[FR Doc. 2011-17858 Filed 7-14-11; 8:45 am]

BILLING CODE 4184-01-P